DEPARTMENT OF TRANSPORTATION

National Highway Traffic Safety Administration

[Docket No. NHTSA-2004-18755; Notice 3]

Coupled Products, Inc., Notice of Appeal of Denial of Petition for Decision of Inconsequential Noncompliance

Coupled Products, Inc. (Coupled Products) has appealed a decision by the National Highway Traffic Safety Administration that denied its petition for a determination that its noncompliance with Federal Motor Vehicle Safety Standard (FMVSS) No. 106, “Brake hoses,” is inconsequential to motor vehicle safety.

Notice of receipt of the petition was published on August 5, 2004, in the Federal Register (69 FR 47484). On December 24, 2004, NHTSA published a notice in the Federal Register denying Coupled Products' petition (69 FR 76520), stating that the petitioner had not met its burden of persuasion that the noncompliance is inconsequential to motor vehicle safety.

This notice of receipt of Coupled Products' appeal is published in accordance with NHTSA's regulations (49 CFR 556.7 and 556.8) and does not represent any agency decision or other exercise of judgment concerning the merits of the appeal.

Coupled Products determined that certain hydraulic brake hose assemblies that it produced do not comply with S5.3.4 of 49 CFR 571.106, FMVSS No. 106. S5.3.4 of FMVSS No. 106, tensile strength, requires that “a hydraulic brake hose assembly shall withstand a pull of 325 pounds without separation of the hose from its end fittings.” A total of approximately 24,622 brake hose assemblies, consisting of 3,092 assemblies bearing Part Number 5478 and 21,530 assemblies bearing Part Number 5480 may not comply with S5.3.4. The potentially affected hoses were manufactured using a “straight cup” procedure rather than the appropriate “step cup” procedure. Compliance testing by the petitioner of eight sample hose assemblies from two separate manufacturing lots of these hoses revealed that seven of the eight samples experienced hose separation from the end fittings at loads from 224 to 317 pounds. Coupled Products asserted that the noncompliance is inconsequential to motor vehicle safety and that no corrective action is warranted.

NHTSA reviewed the petition and determined that the noncompliance is not inconsequential to motor vehicle safety. Coupled Products had stated in its petition that because of the specific vehicle application involved, since the hoses are used in specific boat trailer applications of a single trailer manufacturer, the hoses are installed in such a manner as to make it unlikely that the hose assembly would be subject to the type of forces to which the tensile strength test is directed.

However, NHTSA determined that this was not a persuasive argument, since it is also true of many automobile brake hose applications. NHTSA also pointed out that the tensile strength test is a worst case test, subjecting the crimped joint to a separation pull. The purpose of the tensile strength test is to test only the crimped area in a brake hose. A test conducted at an angle to the end fitting centerline, such as conducted by the Coupled Products, would not measure the strength of the crimped area by itself but also the interaction of the end fitting with the interior wall of the brake hose. This would result in a more lenient test for the crimped area.

In its petition, Coupled Products had also asserted that because the braking system on the trailer is independent of the towing vehicle's braking system, a failure of the hose assembly on the trailer would not result in a loss of braking capability of the towing vehicle, and the driver would be able to stop both vehicles. In response, NHTSA determined that in the event that the failure of the hose assembly occurred, the driver of the towing vehicle would be faced with a potentially serious safety situation due to the reduced stopping capability of the vehicle combination.

The compliance testing by Coupled Products resulted in seven of eight sample hose assemblies experiencing hose separation from the end fittings at loads from 224 to 317 pounds. This represents a noncompliance margin of from 45 percent to 2 percent, respectively, compared to the requirement of 325 pounds, over a total population of 24,622 hose assemblies. NHTSA stated that a noncompliance margin of up to 45 percent presents a serious safety concern.

In consideration of the foregoing, NHTSA decided that the petitioner did not meet its burden of persuasion that the noncompliance it described is inconsequential to motor vehicle safety. Accordingly, its petition was denied.

In its appeal from NHTSA's denial, Coupled Products provided new data. It performed new testing on the noncompliant hoses using a hot impulse test modeled in accordance with SAE J1401, which is to be incorporated into FMVSS No. 106 in 2006 (69 FR 76298, 76324). This test was conducted using both properly crimped and incorrectly crimped brake hoses. The hoses passed the test without failures. In addition, Coupled Products conducted life cycle impulse testing based on SAE J1401, using the maximum brake pressure level (1000 psi) of the trailer for 10,000 cycles, equivalent to two panic stops a day—every day—for ten years, to assess the potential of catastrophic failure or leakage. This test was conducted using correctly and incorrectly crimped brake hoses. Couple Products states that there was no deterioration of hose assembly integrity. Coupled Products' appeal submission containing the specific data can be found in the NHTSA Docket for this petition.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: April 1, 2005.

(Authority: 49 U.S.C. 30118, 30120: delegations of authority at CFR 1.50 and 501.8)

Issued on: February 22, 2005.
Ronald L. Medford,
Senior Associate Administrator for Vehicle Safety.

[FR Doc. 05-3989 Filed 3-1-05; 8:45 am]

BILLING CODE 4910-59-P